Title 3—

The President

Proclamation 10425 of July 22, 2022

Made in America Week, 2022

By the President of the United States of America

A Proclamation

During Made in America Week, we celebrate American workers, the products they make, the services they provide, and the incredible impact they have on our Nation's economy. Across the world, “Made in America” is a badge of quality, and this week we honor the proud legacy and promising future of American goods, services, jobs, and innovation—the collective engine of American prosperity.

The COVID-19 pandemic and the economic crisis it caused, as well as Vladimir Putin's unjustified and unprovoked war on Ukraine, have underscored the importance of a strong and secure domestic industrial base. We have seen in recent years that when goods made overseas become unavailable or exorbitantly costly, American families feel the pain. For years, “Buy American” was a hollow slogan—too many goods and services paid for by American taxpayers were outsourced abroad at the expense of American jobs. In my Administration, “Buy American” is an ironclad promise—and we have taken bold action to make it real.

During my first year in office, we created more manufacturing jobs on average per month than any other President has in the last 50 years. Businesses are investing in American manufacturing and creating thousands of good-paying union jobs to meet the demands of our modern economy and rebuild that economy around working people. We are creating more opportunity for workers and businesses who have too often been overlooked by investing in racial, gender, and geographic diversity for industries across the country.

The Federal Government is the largest buyer of consumer goods in the world. To ensure that we are investing in American products, I recently announced a procurement rule that strengthens Buy American provisions by increasing the Made in America content threshold from 55 percent to 75 percent so that goods have to be truly made in America to be considered “Made in America.” This represents the biggest change to the Buy American Act in almost 70 years. I also named our Nation's first-ever Made in America Director to serve in a high-level White House role. I continue to call on the Congress to pass the Bipartisan Innovation Act so that we can create more resilient domestic supply chains and unleash the next generation of American innovation for the industries and jobs of the future.

The historic Bipartisan Infrastructure Law is critical to advancing our Made in America agenda. We are rebuilding our Nation's roads, bridges, ports, airports, and so much more. We are constructing a national network of 500,000 electric vehicle chargers installed by union workers on highways and in communities across America. We are ensuring that every American has clean drinking water. We are creating good-paying union jobs, revitalizing American manufacturing, and positioning the United States to continue to lead throughout the 21st century.

In addition, we are leveraging a federally funded national network—the Manufacturing Extension Partnership—to help Government agencies connect with new suppliers across the country, including Black, Brown, and Native American-owned small businesses, which have often been excluded from these opportunities. My Administration also launched MadeInAmerica.gov to help American businesses in every community identify available government contracts, and we created a Made in America Council to help ensure that our future is made in all of America by all of America's workers.

A vibrant domestic industrial base is key to building an economy that works for working people and advancing America's global leadership with American manufacturers and workers at the forefront. During Made in America Week, let us celebrate everything that is Made in America and the workers, businesses, and innovators who are the driving force behind their success. America is the most innovative country in the world, and together, we will build a competitive economy for the future right here at home.

NOW, THEREFORE, I, JOSEPH R. BIDEN JR., President of the United States of America, by virtue of the authority vested in me by the Constitution and the laws of the United States, do hereby proclaim July 24 through July 30, 2022, as Made in America Week. I call upon all Americans to observe this week by supporting American workers and domestic businesses that are the backbone of building a future here in America and celebrating Made in America.

IN WITNESS WHEREOF, I have hereunto set my hand this twenty-second day of July, in the year of our Lord two thousand twenty-second, and of the Independence of the United States of America the two hundred and forty-seventh.

[FR Doc. 2022-16196

Filed 7-26-22; 8:45 am]

Billing code 3395-F2-P